ENVIRONMENTAL PROTECTION AGENCY

[OPP-00647; FRL-6497-5]

FIFRA Scientific Advisory Panel; Open Meeting

AGENCY: Environmental Protection Agency (EPA).

ACTION: Notice.

SUMMARY: There will be a 3-day meeting of the Federal Insecticide, Fungicide, and Rodenticide Act (FIFRA) and Food Quality Protection Act (FQPA) Scientific Advisory Panel (SAP) to review the following sets of scientific issues being considered by the Agency pertaining to: Insect Repellent Product Performance Testing Guideline Evaluation and Implementing Probabilistic Ecological Assessments: A Consultation.

The meeting is open to the public. Seating at the meeting will be on a first-come basis. Individuals requiring special accommodations at this meeting, including wheelchair access, should contact Paul Lewis or Laura Morris at the address listed under FOR FURTHER INFORMATION CONTACT at least 5 business days prior to the meeting so that appropriate arrangements can be made.

DATES: The meeting will be held on Wednesday, April 5, through Friday, April 7, 2000, from 8:30 a.m. to 5:30 p.m.

ADDRESSES: Sheraton Crystal City Hotel, 1800 Jefferson Davis Highway, Arlington, VA. The telephone number for the Sheraton hotel is: (703) 486-1111.

Comments may be submitted by mail, electronically, or in person. Please follow the detailed instructions for each method as provided in Unit I. of the SUPPLEMENTARY INFORMATION. To ensure proper receipt by EPA, it is imperative that you identify docket control number OPP-00647 in the subject line on the first page of your response.

FOR FURTHER INFORMATION CONTACT: Paul Lewis or Laura Morris, Designated Federal Officials, FIFRA SAP (7101C), Office of Science Coordination and Policy, U.S. Environmental Protection Agency, Ariel Rios Building, 1200 Pennsylvania Avenue, NW. Washington, DC 20460; telephone number: (703) 305-5369; fax number: (703) 605-0656; e-mail address: lewis.paul or morris.laura@epa.gov.

SUPPLEMENTARY INFORMATION:

I. General Information

A. Does this Action Apply to Me?

This action is directed to the public in general. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations” and then look up the entry for this document under the “Federal Register--Environmental Documents.” You can also go directly to the Federal Register listings at http://www.epa.gov/fedrgstr/.

A meeting agenda and copies of EPA background documents for the meeting will be available by mid March, 2000. The meeting agenda and EPA primary background documents will be available on the FIFRA SAP web site at http://www.epa.gov/scipoly/sap.

2. In person. The Agency has established an official record for this action under docket control number OPP-00647. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How Can I Request to Participate in this Meeting?

You may submit comments through the mail, in person, or electronically. To ensure proper receipt by EPA, it is imperative that you identify docket control number OPP-00647 in the subject line on the first page of your response. Members of the public wishing to submit comments should contact the persons listed under FOR FURTHER INFORMATION CONTACT to confirm that the meeting date and the agenda have not been modified or changed.

Interested persons are permitted to file written statements before the meeting. To the extent that time permits, and upon advanced written request to the persons listed under FOR FURTHER INFORMATION CONTACT interested persons may be permitted by the Chair of the FIFRA Scientific Advisory Panel to present oral statements at the meeting. The request should identify the name of the individual making the presentation, the organization (if any) the individual will represent, and any requirements for audiovisual equipment (e.g., overhead projector, 35 mm projector, chalkboard, etc). There is no limit on the length of written comments for consideration by the Panel, but oral statements before the Panel are limited to approximately 5 minutes. The Agency also urges the public to submit written comments in lieu of oral presentations. Persons wishing to make oral and/or written statements should notify the persons listed under FOR FURTHER INFORMATION CONTACT and submit 40 copies of the summary information. The Agency encourages that written statements be submitted before the meeting to provide Panel Members the time necessary to consider and review the comments.

1. By mail. Submit your comments to: Public Information and Records Integrity Branch (PIRIB), Information Resources and Services Division (7502C), Office of Pesticide Programs (OPP), U.S. Environmental Protection Agency, Ariel Rios Building, 1200 Pennsylvania Avenue, NW. Washington, DC 20460.

2. In person or by courier. Deliver your comments to: Public Information and Records Integrity Branch (PIRIB), Information Resources and Services Division (7502C), Office of Pesticide Programs (OPP), Environmental Protection Agency, Rm. 119, CM #2, 1921 Jefferson Davis Hwy., Arlington, VA. The PIRIB is open from 8:30 a.m. to 4 p.m., Monday through Friday, excluding legal holidays. The PIRIB telephone number is (703) 305-5805.

3. Electronically. You may submit your comments electronically by e-mail to: “opp-docket@epa.gov,” or you can submit a computer disk as described above. Do not submit any information electronically that you consider to be CBI. Avoid the use of special characters and any form of encryption. Electronic submissions will be accepted in WordPerfect 6.1/8.0 or ASCII file format. All comments in electronic form must be identified by docket control number OPP-00647. Electronic comments may also be filed online at many Federal Depository Libraries.

II. Background

A. Purpose of the Meeting?

This 3-day meeting concerns several scientific issues undergoing consideration within the EPA/Office of Pesticide Programs (OPP). The 2 session topics to be addressed during the 3-day meeting are indicated as follows:

The first session will focus on an evaluation of the insect repellent product performance testing guideline. Inconsistencies have developed in product performance testing and labeling of insect repellents. In order to minimize this variance, EPA has developed draft product performance testing guidelines and appropriate label language. This guideline recommends specific methods for conducting product performance testing of insect repellents. As a guideline, it does not impose mandatory requirements. It does, however, reflect the Agency's considered recommendations for minimum steps necessary to develop reliable data on repellent product performance. In addition, the product performance testing guidelines are intended to supercede EPA, Pesticide Assessment Guidelines, Subdivision G: 95-9, “Treatments to control pests of humans and pests” and 95-10, “Mosquito, black fly, nonbiting midge, and biting midge.”

A performance standard represents the minimum level of product performance which would normally be acceptable for protecting the public health, when required, or for economic control of a pest or pest combination at a specific site. These guidelines are concerned with product performance testing for evaluation of pesticides used to repel mosquitos, biting flies, fleas, chiggers and ticks from human skin and outdoor premises. EPA intends to use the data form guidelines studies to help determine the adequacy of the labeling of insect repellant products. The label language proposed by the Agency is intended to standardize and improve the information provided by the consumer. The Agency will be asking the Panel's advice on the adequacy of the proposed testing guidelines and protocols for human insect repellants.

The second session will entail a consultation on implementing probabilistic ecological assessments. The purpose of this consultation is to provide the FIFRA SAP with a progress report regarding the EPA/OPP/Environmental Fate and Effect Division's (EFED) initiative to revise the ecological assessment process. Following the recommendations of the May, 1996 FIFRA SAP and building on previous efforts within the Division, EFED began a new initiative in 1997 to revise the ecological assessment process. The main focus on this initiative is to identify, develop, and validate tools and methodologies to conduct probabilistic ecological assessments and improve risk characterization.

A key component of this initiative has been the Ecological Committee on FIFRA Risk Assessment Methods (ECOFRAM), which refers to the workgroups who have been developing recommendations for revising the assessment process. ECOFRAM completed their draft reports in May, which were reviewed by a peer input panel in June, 1999.

Another key component is EFED's Probabilistic Risk Assessment Implementation Team (Implementation Team), which is charged with developing an implementation plan to incorporate probabilistic tools and methods to evaluate the ecological risk from pesticides. They are responsible for the technical evaluation and review of the ECOFRAM reports and workshop comments, which were used as a starting point for developing an approach for implementing changes to the current deterministic assessment process.

Thus, EFED will provide the Panel with an update regarding the progress of this initiative and seeks the Panel's comments and recommendations. EFED's presentation will include a summary of the ECOFRAM draft reports, the peer input panel comments, and an overview of the conceptual risk assessment model being proposed by the Implementation Team. This model is based on a tiered approach for implementing aquatic and terrestrial probabilistic assessments in OPP.

B. Panel Report

Copies of the Panel's report of their recommendations will be available approximately 45 working days after the meeting, and will be posted on the FIFRA SAP web site or may be obtained by contacting the Public Information and Records Integrity Branch at the address or telephone number listed in Unit III. of this document.

List of Subjects

Environmental protection.

Dated: March 7, 2000.
Steven Galson,
Director, Office of Science Coordination and Policy.

[FR Doc. 00-6513 Filed 3-13-00; 2:22 pm]

BILLING CODE 6560-50-F